DEPARTMENT OF HEALTH AND HUMAN SERVICES

Centers for Disease Control and Prevention

Disease, Disability, and Injury Prevention and Control Special Emphasis Panel (SEP)—CE24-034, Rigorous Evaluation of Policies for Their Impacts on the Primary Prevention of Multiple Forms of Violence; Amended Notice of Closed Meeting

Notice is hereby given of a change in the meeting of the Disease, Disability, and Injury Prevention and Control Special Emphasis Panel (SEP)—CE24-034, Rigorous Evaluation of Policies for their Impacts on the Primary Prevention of Multiple Forms of Violence; February 27, 2024, 8 a.m.-5 p.m., EST, web conference, in the original Federal Register notice. The meeting notice was published in the Federal Register on October 24, 2023, Volume 88, Number 204, page 73020.

The notice is being amended to change the date to a two-day meeting and to change the times. The notice should read as follows:

Name of Committee: Disease, Disability, and Injury Prevention and Control Special Emphasis Panel (SEP)—CE24-034, Rigorous Evaluation of Policies for their Impacts on the Primary Prevention of Multiple Forms of Violence.

Dates: February 27-28, 2024.

Times: 8:30 a.m.-5:30 p.m., EST.

The meeting is closed to the public.

FOR FURTHER INFORMATION CONTACT: Carlisha Gentles, Pharm.D., B.C.P.S., C.D.C.E.S., Scientific Review Officer, National Center for Injury Prevention and Control, Centers for Disease Control and Prevention, 4770 Buford Highway NE, Mailstop S106-9, Atlanta, Georgia 30341. Telephone: (770) 488-1504; Email: CGentles@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-28615 Filed 12-27-23; 8:45 am]

BILLING CODE 4163-18-P